DEPARTMENT OF THE INTERIOR

Bureau of Land Management

[LLCOSO00000.L11700000.DF0000.LXSGCO000000.223]

Notice of Intent to Amend Multiple Resource Management Plans Regarding Gunnison Sage-Grouse (Centrocercus minimus) Conservation and Prepare an Associated Environmental Impact Statement, Colorado and Utah

AGENCY: Bureau of Land Management, Interior.

ACTION: Notice of intent.

SUMMARY: In compliance with the National Environmental Policy Act of 1969, as amended (NEPA), and the Federal Land Policy and Management Act of 1976, as amended (FLPMA), the Bureau of Land Management (BLM) Colorado and Utah State Directors intend to prepare a Gunnison Sage-Grouse Resource Management Plan (RMP) Amendment with an associated environmental impact statement (EIS), and by this notice are announcing the beginning of the public scoping period to solicit public comments and identify issues, providing the planning criteria for public review, and issuing a call for nominations for areas of critical environmental concern (ACECs). This notice terminates the previous Gunnison Sage-Grouse Rangewide Draft RMP Amendment and Draft EIS (DOI-BLM-CO-0000-2014-0001-RMP-EIS) initiative that began in July 2014.

DATES: The BLM requests the public submit comments concerning the scope of the analysis, potential alternatives, and identification of relevant information, studies, and ACEC nominations by August 22, 2022. To afford the BLM the opportunity to consider issues and ACEC nominations raised by commenters in preparing the draft RMP amendment/EIS, please ensure your comments are received prior to the close of the 45-day scoping period or 15 days after the last public meeting, whichever is later. The date(s) and location(s) of any public meetings associated with this land use planning initiative will be announced at least 15 days in advance through local news media, newspapers, and the BLM website at the web address located in ADDRESSES below.

ADDRESSES: You may submit comments issues and planning criteria related to these Gunnison sage-grouse RMP amendments and nominations of new ACECs by the following methods:

• Website: https://eplanning.blm.gov/eplanning-ui/project/2019031/510.

• Mail: Gunnison Sage-Grouse RMP Amendment/EIS, BLM Grand Junction Field Office, 2815 H Rd., Grand Junction, CO 81506.

Documents pertinent to this proposal may be examined online at https://eplanning.blm.gov/eplanning-ui/project/2019031/510 and at the following Field Office and District Office locations:

• Rocky Mountain District Office; 3028 E Main St.; Canon City, CO 81212

○ San Luis Valley Field Office, 1313 E Highway 160; Monte Vista, CO 81144

• Southwest District Office; 2465 S Townsend Ave.; Montrose, CO 81401

○ Gunnison Field Office; 210 W Spencer Ave.; Gunnison, CO 81230

○ Tres Rios Field Office; 29211 Highway 184; Dolores, CO 81323

○ Uncompahgre Field Office; 2465 S Townsend Ave.; Montrose, CO 81401

• Upper Colorado River District Office; 2815 H Road, Grand Junction, CO 81506

○ Grand Junction Field Office; 2815 H Road; Grand Junction, CO 81506

• Canyon Country District Office; 82 East Dogwood; Moab, UT 84532

○ Moab Field Office; 82 East Dogwood; Moab, UT 84532

○ Monticello Field Office; 365 North Main, Monticello, UT 84535

FOR FURTHER INFORMATION CONTACT: Leah Waldner, Sage-Grouse Coordinator, BLM Colorado; telephone: 970-244-3045; or email: BLM_CO_GUSG_RMPA@blm.gov; address: BLM Grand Junction Field Office, 2815 H Rd, Grand Junction, CO 81506. Contact Ms. Waldner via email to have your name added to our mailing list. Persons in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: This document provides notice that the BLM Colorado and Utah State Directors intend to prepare an RMP amendment with an associated EIS for the management of Gunnison sage-grouse and its habitat, announce the beginning of the scoping process, seek public input on issues and planning criteria, and invite the public to nominate ACECs. The BLM is considering amending the following RMPs to incorporate management actions with the potential to affect Gunnison sage-grouse populations or occupied and unoccupied habitat: Canyons of the Ancients National Monument RMP (2010), Dominguez-Escalante National Conservation Area RMP (2017), Grand Junction Field Office RMP (2015), Gunnison Gorge National Conservation Area RMP (2004), Gunnison Resource Area RMP (1993), McInnis Canyons National Conservation Area RMP (2004), San Luis Resource Area RMP (1991), Tres Rios Field Office RMP (2015), Uncompahgre Field Office RMP (2020), Moab Field Office RMP (2008), and Monticello Field Office RMP (2008).

The planning area is located in the following nineteen Colorado counties: Alamosa, Archuleta, Conejos, Costilla, Delta, Dolores, Garfield, Gunnison, Hinsdale, La Plata, Mesa, Mineral, Montezuma, Montrose, Ouray, Rio Grande, Saguache, San Juan, and San Miguel, and in the following two Utah counties: Grand and San Juan. The planning area encompasses approximately 7.6 million acres of BLM-managed surface land and approximately 17.1 million acres of Federal mineral estate. This acreage includes Federal minerals on Federal lands and “split-estate” Federal minerals located under surface lands with non-Federal ownership. The decision area includes approximately 1.5 million acres of split-estate Federal minerals (e.g., privately owned surface and State lands). It does not include National Forest System land and other Federal land where the BLM does not make planning decisions. The BLM typically adopts the leasing requirements determined by other Federal surface-managing agencies when leasing the mineral estate (while within the planning area, those lands are outside the decision area).

In addition, this notice terminates the previous Gunnison Sage-Grouse Rangewide Draft RMP Amendment and Draft EIS (DOI-BLM-CO-0000-2014-0001-RMP-EIS) initiative that began in July 2014 and resulted in the release of a draft RMP amendment/draft EIS in August 2016. That planning effort was paused following notification in April 2018 that the U.S. Fish and Wildlife Service (USFWS) intended to formulate a recovery plan for the species. No final EIS or Record of Decision will be issued for BLM-CO-0000-2014-0001-RMP-EIS. The USFWS released the Final Recovery Plan for Gunnison Sage-Grouse in October 2020.

Purpose and Need

The preliminary purpose for the BLM action is to promote the recovery of the threatened Gunnison sage-grouse and maintain and enhance the occupied and unoccupied habitat upon which the species depends; ensure that management actions on BLM lands and sub-surface mineral estate support conservation goals for Gunnison sage-grouse and do not result in the adverse modification of occupied or unoccupied habitat for the species; and develop BLM management practices considering current science and data, relevant Federal, State, and local decisions supporting recovery, the Department of the Interior Climate Action Plan (2021), the USFWS Final Recovery Plan for Gunnison Sage-Grouse (2020), and the USFWS Recovery Implementation Strategy for Gunnison sage-grouse (Centrocercus minimus) (2020).

The BLM's primary need is to address the rangewide downward population trend of the Gunnison sage-grouse and issues related to land management that may affect habitat; fulfill the Endangered Species Act (ESA) Section 7(a)(1) requirement that the BLM use its authority to further the purposes of the ESA by implementing management actions that conserve federally listed species and the ecosystems upon which they depend; and respond to changed ecological and climate conditions affecting BLM-managed lands (including drought, invasive plants, habitat loss and fragmentation, impaired riparian areas, and more frequent wildland fires).

Preliminary Alternatives

The BLM manages approximately 42 percent of the Gunnison sage-grouse occupied habitat across the entire range. The BLM manages approximately 50 percent of the occupied habitat within Gunnison Basin, Colorado, which is the largest population of Gunnison sage-grouse, containing approximately 85 percent of the species' adult individuals (November 21, 2014; 79 FR 69191). The USFWS identified threats to Gunnison sage-grouse in the Final Recovery Plan for Gunnison Sage-Grouse (2020), the Recovery Implementation Strategy for Gunnison Sage-Grouse (2020), and the Species Status Assessment Report for the Gunnison Sage-Grouse (2019). Some of the threats affecting the survival of Gunnison sage-grouse include habitat fragmentation and development, severe drought and climate change, invasive plants, juniper encroachment, improper grazing practices, predation, and recreation. The BLM will propose and analyze, with the best available scientific methods and information, alternatives for the recovery of Gunnison sage-grouse populations and conservation of sagebrush habitat. The BLM has found that existing BLM land use plans in Colorado and Utah may not fully take into account new data and science related to the management of Gunnison sage-grouse and sagebrush habitat.

The BLM will consider continuation of current management (No Action Alternative) under the existing BLM RMPs, as amended. To address the threat of fragmentation and development to Gunnison sage-grouse habitat, the BLM will consider limits on density and disturbance from development, including facility and route density limitations. The BLM will additionally consider whether to incorporate new or changed oil and gas leasing and management decisions that would incorporate conservation measures for important sagebrush habitat areas for Gunnison sage-grouse. The BLM may consider closure of areas to future oil and gas leasing in addition to stipulations such as timing limitations, controlled surface use restrictions, and no surface occupancy restrictions. The BLM will also consider changes that minimize or compensate for impacts from resource uses, such as recreation and grazing, and address habitat resiliency during periods of drought. The BLM will also consider designation of ACECs. The BLM welcomes comments on the preliminary alternatives as well as suggestions for additional alternatives.

Planning Criteria

The planning criteria guide the planning effort and lay the groundwork for the effects analysis by identifying the preliminary issues and their analytical frameworks. The BLM has identified the following preliminary planning criteria to guide development of the RMP amendment and is accepting public input during the scoping period consistent with 43 CFR 1610.4-2(c):

• The planning effort will be limited to land use planning decisions specific to conservation of the Gunnison sage-grouse and its habitat; existing land use plan decisions not affected by the amendments will remain in effect;

• The RMP amendment and associated EIS process will comply with FLPMA, NEPA, and other Federal statutes, regulations, executive orders, and management policies;

• The BLM will recognize valid existing rights;

• The BLM will adhere to adaptive management principles;

• The BLM will give priority to designating and protecting ACECs;

• The BLM will consider land use allocations and/or prescriptive standards to conserve Gunnison sage-grouse habitat, as well as objectives and management actions to restore, enhance, and improve Gunnison sage-grouse habitat;

• The BLM will consider a range of reasonable alternatives, including appropriate management prescriptions that focus on the relative values of resources while contributing to the conservation of the Gunnison sage-grouse and its habitat;

• The BLM will consider the socioeconomic impacts of alternatives; socioeconomic analyses will use an accepted input/output quantitative model such as the Impact Analysis for Planning or the Regional Input-Output Modeling System;

• The BLM will use current scientific information, research, technologies, inventory, monitoring, and coordination results, and approved BLM spatial data supported by current metadata to ascertain the extent and quality of Gunnison sage-grouse habitat and determine appropriate management strategies to enhance or restore habitat; data will be consistent with principles of the Information Quality Act of 2000;

• The BLM will ensure that activities on BLM-administered lands within Gunnison sage-grouse habitat do not negatively impact land health standards; standards and guidelines for livestock grazing and other applicable programs affecting BLM lands will be included in all alternatives;

• The BLM will coordinate and communicate with State, local, and Tribal governments to ensure that management direction and decisions are consistent with applicable State, local, and Tribal plans and policies to the extent consistent with the laws and policies governing the public lands; seek to resolve inconsistencies among plans; and provide ample opportunities for State, local, and Tribal governments to comment on the development of alternatives and the draft RMP amendment;

• The BLM will confer with the USFWS as the primary management agency for ESA-listed species and will consider conservation measures outlined in the Final Recovery Plan for Gunnison sage-grouse (2020) and the Recovery Implementation Strategy for Gunnison sage-grouse (Centrocercus minimus) (2020);

• The BLM recognizes the important role of State wildlife agencies and will confer and coordinate with these agencies as appropriate;

• The BLM will consider habitat requirements and best management practices outlined by the interagency Rangewide Steering Committee in the Gunnison Sage-grouse Rangewide Conservation Plan (2005) and other applicable resources;

• The BLM will evaluate any special management attention needed for the recognized relevant and important values of those areas nominated for ACEC designation and any new nominations, in accordance with BLM Manual 1613; and

• The BLM will consider the draft analysis and direction in the BLM Gunnison Sage-Grouse Rangewide Draft RMP Amendment/Draft EIS (2016).

Summary of Expected Impacts

The RMP amendment and draft EIS will evaluate existing RMPs within the planning area and address management actions including, but not limited to, mineral leasing and development, recreation, livestock grazing management, realty actions, fire management, vegetation and habitat objectives, and restoration actions. The BLM will then consider, with the best available science, reasonable alternative approaches to its management strategies. Expected changes to RMP management decisions could include seasonal timing limitations, avoidance and mitigation measures, development restrictions within habitat areas, design features, controlled use or surface disturbance restrictions, seasonal closures of high-use areas, and grazing management guidelines.

The public is invited to comment on data relevant to the proposed action and relationship between land use management and Gunnison sage-grouse conservation, and the effects of the management actions under consideration on other public land resources and uses. This information will inform the scope of the impact analysis in the draft EIS. The BLM seeks information related to activities and public land uses that may cause disturbance to important Gunnison sage-grouse habitat and will consider that information as appropriate in describing the existing environment and reasonably foreseeable trends, or in the effects analysis.

Schedule for the Decision-Making Process

This amendment process is expected to be completed within 2 years. The BLM will provide additional opportunities for public participation consistent with the NEPA and land use planning processes, including a 90-day comment period on the Gunnison Sage-Grouse Draft RMP Amendment/EIS and a concurrent 30-day public protest period and a 60-day Governor's consistency review on the proposed RMP amendment. The draft RMP amendment/EIS is anticipated to be available for public review in the summer of 2023 and the proposed RMP amendment/final EIS is anticipated to be available for public protest in early 2024 with a Gunnison Sage-Grouse Approved RMP Amendment and Record of Decision in May 2024.

Public Scoping Process

This notice of intent initiates the scoping period and public review of the planning criteria, which guide the development of the draft RMP amendment/EIS and its analysis.

The BLM anticipates holding a minimum of two and up to four public scoping meetings, which may be conducted through online platforms, to explain project details and obtain feedback. BLM representatives will be available to answer questions. The specific date(s) of these scoping meetings, along with information about how to participate, will be announced at least 15 days in advance through local media, newspapers, and the BLM's project website (see ADDRESSES). All comments must be received by the date shown in the DATES section. It is important that reviewers provide timely comments in a manner that makes them useful to the agency's preparation of the draft RMP amendment/EIS. Therefore, comments should be provided prior to the close of the scoping period and should clearly articulate the reviewer's concerns and contentions. Comments received in response to this solicitation, including names and addresses of those who comment, will be part of the public record for this proposed action. Comments submitted anonymously will be accepted and considered.

ACECs

The following ACEC is currently designated in the planning area and within the scope of the draft RMP amendment/EIS: Gunnison Sage-Grouse ACEC/Important Bird Area (IBA) covering 22,200 acres of public surface. Gunnison sage-grouse and its habitat is emphasized for protection as an important and relevant value in the designated ACEC within the Gunnison Gorge National Conservation Area (NCA). The BLM will re-evaluate this designated ACEC/IBA for consideration in the draft RMP amendment/EIS.

The BLM will also evaluate these previously nominated ACECs for consideration in the draft RMP amendment/EIS:

• Dry Creek Basin (approximately 34,785 acres) and Northdale/Northdale Expansion (5,239 acres originally nominated; 6,936 additional acres nominated) areas deferred in the Tres Rios Field Office ACEC RMP Amendment (2020) pending issuance of the Gunnison Sage-Grouse RMP Amendment;

• All Gunnison Sage-Grouse Occupied and Unoccupied Habitat (approximately 623,000 acres) previously described as Alternative B in the Gunnison Sage-Grouse Rangewide Draft RMP Amendment/Draft EIS (2016) (DOI-BLM-CO-0000-2014-0001-RMP-EIS).

This notice invites the public to nominate additional areas for ACEC consideration. To assist the BLM in evaluating nominations for consideration in the draft RMP amendment/EIS, please provide supporting descriptive materials, maps, and evidence of the relevance and importance of resources or hazards by the close of the public comment period in order to facilitate timely evaluation. The BLM has identified the anticipated issues related to the consideration of ACECs in the planning criteria.

Lead and Cooperating Agencies

The BLM is the lead agency for the NEPA analysis associated with this planning effort. The BLM has invited other Federal agencies, State and local government agencies, and Tribes to be cooperating agencies. Other stakeholders that may be interested in or affected by the proposed action are invited to participate in the scoping process and, if eligible, may request or be requested by the BLM to participate in the development of the EIS as a cooperating agency.

Responsible Official

The BLM Colorado State Director is the deciding official for the potential RMP amendments in the planning area in Colorado. The Utah State Director is the deciding official for the potential RMP amendments in the planning area in Utah.

Nature of Decision To Be Made

The nature of the decision to be made will be the State Directors' selection of land use planning decisions for managing BLM-administered lands under the principles of multiple use and sustained yield in a manner that best addresses the purpose and need.

Interdisciplinary Team

The BLM will use an interdisciplinary approach to develop the plan in order to consider the variety of resource issues and concerns identified. Specialists with expertise in the following disciplines will be involved in this planning effort to consider the resource issues and concerns identified during development of the RMP amendment/EIS: wildlife biology, fluid minerals, geographic information systems, and land use planning.

Additional Information

The BLM will identify, analyze, and consider mitigation to address the reasonably foreseeable impacts to resources from the proposed plan amendment and all reasonable alternatives and, in accordance with 40 CFR 1502.14(f), include appropriate mitigation measures not already included in the proposed plan amendment or alternatives. Mitigation may include avoidance, minimization, rectification, reduction or elimination over time, and compensation, and may be considered at multiple scales, including the landscape scale.

The BLM will utilize and coordinate the NEPA and land use planning processes for this effort to help support compliance with applicable procedural requirements of the ESA (16 U.S.C. 1536) and Section 106 of the National Historic Preservation Act (54 U.S.C. 306108) as implemented in 36 CFR 800.2(d)(3), including the public involvement requirements of Section 106. The information about historic and cultural resources and threatened and endangered species within the area potentially affected by the proposed plan amendment will assist the BLM in identifying and evaluating impacts to such resources.

The BLM will consult with Indian Tribal Nations on a government-to-government basis in accordance with Executive Order 13175, BLM Manual Section 1780, and other Departmental policies. Tribal concerns, including impacts on Indian trust assets and potential impacts to cultural resources, will be given due consideration. Federal, State, and local agencies, along with Indian Tribal Nations and other stakeholders that may be interested in or affected by the proposed plan amendment that the BLM is evaluating, are invited to participate in the scoping process and, if eligible, may request or be requested by the BLM to participate in the development of the environmental analysis as a cooperating agency.

Before including your address, phone number, email address, or other personal identifying information in your comment, you should be aware that your entire comment—including your personal identifying information—may be made publicly available at any time. While you can ask us in your comment to withhold your personal identifying information from public review, we cannot guarantee that we will be able to do so.

(Authority: 40 CFR 1501.9 and 43 CFR 1610.2)

Stephanie Connolly,
BLM Colorado Acting State Director.

[FR Doc. 2022-14361 Filed 7-5-22; 8:45 am]

BILLING CODE 4310-JB-P